DEPARTMENT OF AGRICULTURE

Food Safety and Inspection Service

[Docket No. FSIS-2013-0048]

Codex Alimentarius Commission: Meeting of the Codex Committee on Methods of Analysis and Sampling

AGENCY: Office of the Under Secretary for Food Safety, USDA.

ACTION: Notice of public meeting and request for comments.

SUMMARY: The Office of the Under Secretary for Food Safety, U.S. Department of Agriculture (USDA), and the Food and Drug Administration (FDA), Center for Food Safety and Applied Nutrition (CFSAN), are sponsoring a public meeting to take place on February 5, 2014. The objective of the public meeting is to provide information and receive public comments on agenda items and draft United States positions that will be discussed at the 35th Session of the Codex Committee on Methods of Analysis and Sampling (CCMAS) of the Codex Alimentarius Commission (Codex), which will take place in Budapest, Hungary, from March 3-7, 2014. The Acting Under Secretary for Food Safety and the FDA recognize the importance of providing interested parties the opportunity to obtain background information on the 35th Session of CCMAS and to address items on the agenda.

DATES: The public meeting is scheduled for February 5, 2014 from 2:00 p.m. to 4:00 p.m.

ADDRESSES: The public meeting will take place at the Harvey W. Wiley Federal Building, Food and Drug Administration, Center for Food Safety and Applied Nutrition, Room 1A-002, 5100 Paint Branch Parkway, College Park, MD 20740.

Documents related to the 35th Session of the CCMAS will be accessible via the World Wide Web at the following address: http://www.codexalimentarius.org/meetings-reports/en/.

Dr. Gregory O. Noonan, U.S. Delegate to the 35th Session of the CCMAS, and the FDA, invite U.S. interested parties to submit their comments electronically to the following email address: Gregory.Noonan@fda.hhs.gov.

Call-In Number: If you wish to participate in the public meeting for the 35th Session of the CCMAS by conference call, please use the call-in number and participant code listed below.

Call-In Number: 1-301-796-2700 or 1-877-231-0558 (toll free).

Participant Code: 5349#.

FOR FURTHER INFORMATION CONTACT: For further information about the 35th Session of the CCMAS contact: Gregory O. Noonan, Ph.D., Research Chemist, Center for Food Safety and Applied Nutrition, Food and Drug Administration, Harvey W. Wiley Federal Building, 5100 Paint Branch Parkway, College Park, MD 20740; Telephone: (240) 402-2250, Fax: (301) 436-2634, Email: Gregory.Noonan@fda.hhs.gov.

For further information about the public meeting contact: Marie Maratos, U.S. Codex Office, South Building, Room 4861, 1400 Independence Avenue SW., Washington, DC 20250; Telephone: (202)205-7760, Fax: (202)720-3157, Email: Marie.Maratos@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure fair practices in the food trade.

The Codex Committee on Methods of Analysis and Sampling is responsible for:

(a) Defining the criteria appropriate to Codex methods of analysis and sampling;

(b) Serving as a coordinating body for Codex with other international groups working in methods of analysis and sampling and quality assurance systems for laboratories;

(c) Specifying the basis of final recommendations submitted to it by other bodies;

(d) Considering, amending, and endorsing, methods of analysis and sampling proposed by Codex (commodity) committees, except that methods of analysis and sampling for residues of pesticides or veterinary drugs in food, the assessment of micro biological quality and safety in food, and the assessment of specifications for food additives do not fall within the terms of reference of this Committee;

(e) Elaborating sampling plans and procedures;

(f) Considering specific sampling and analysis problems submitted to it by the Commission or any of its Committees; and

(g) Defining procedures, protocols, guidelines or related texts for the assessment of food laboratory proficiency, as well as quality assurance systems for laboratories.

The CCMAS is hosted by Hungary.

Issues To Be Discussed at the Public Meeting

The following items on the Agenda for the 35th Session of CCMAS will be discussed during the public meeting:

• Matters Referred to the Committee by the Codex Alimentarius Commission and Other Codex Committees

• Endorsement of Methods of Analysis Provisions in Codex Standards

• Proposed Draft Principles for the Use of Sampling and Testing in International Food Trade: Explanatory Notes (at Step 4)

• Discussion paper on considering procedures for establishing criteria

• Discussion paper on elaboration of procedures for regular updating of methods

• Discussion paper on Sampling in Codex standards

• Report of an Inter-Agency Meeting on Methods of Analysis

• Other Business and Future Work

Each issue listed will be fully described in documents distributed, or to be distributed, by the Codex Secretariat prior to the Committee meeting. Members of the public may access or request copies of these documents (see ADDRESSES).

Public Meeting

At the February 5, 2014, public meeting, draft U.S. positions on the agenda items will be described and discussed, and attendees will have the opportunity to pose questions and offer comments. Written comments may be offered at the meeting or sent to the U.S. Delegate for the 35th Session of the CCMAS, Gregory Noonan (see ADDRESSES). Written comments should state that they relate to activities of the 35th Session of the CCMAS.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives and notices. Customers can add or delete subscriptions themselves, and have the option to password protect their accounts.

Done at Washington, DC on: January 9, 2014.
Mary Frances Lowe,
U.S. Manager for Codex Alimentarius.

[FR Doc. 2014-01474 Filed 1-24-14; 8:45 am]

BILLING CODE 3410-DM-P